DEPARTMENT OF HEALTH AND HUMAN SERVICES

National Institutes of Health

National Cancer Institute: Amended Notice of Meeting

Notice is hereby given of a change in the meeting of the National Cancer Institute Special Emphasis Panel, June 20, 2013, 03:00 p.m. to June 21, 2013, 06:00 p.m., Hilton Washington/Rockville, 1750 Rockville Pike, Rockville, MD 20852 which was published in the Federal Register on May 06, 2013, 78FR10574.

This notice is being amended due to a change in the meeting date and time from 3:00 p.m. to 6:00 p.m. on June 20 to 21, 2013 to 8:00 a.m. to 5:00 p.m. on June 20, 2013. The meeting is closed to the public.

Dated: May 20, 2013.
Melanie J. Gray,
Program Analyst, Office of Federal Advisory Committee Policy.

[FR Doc. 2013-12376 Filed 5-23-13; 8:45 am]

BILLING CODE 4140-01-P